FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 004508F.

Name: Express Lanes International, Inc.

Address: 401 Broadway, Suite 1208, New York, NY 10013.

Date Revoked: December 9, 2004.

Reason: Failed to maintain a valid bond.

License Number: 018059NF.

Name: G P R International, Inc.

Address: 8347 NW., 68th Street, Miami, FL 33166.

Date Revoked: December 15, 2004.

Reason: Failed to maintain valid bonds.

License Number: 000120F.

Name: Haras & Co., Inc.

Address: 495 Union Avenue, Middlesex, NJ 08846.

Date Revoked: December 10, 2004.

Reason: Failed to maintain a valid bond.

License Number: 017572F.

Name: Impex of Doral Logistics, Inc.

Address: 8436 NW., 72nd Street, Miami, FL 33166.

Date Revoked: December 16, 2004.

Reason: Failed to maintain a valid bond.

License Number: 003794F.

Name: Marina International Forwarding Inc.

Address : 3274 NW., 22nd Avenue, Fort Lauderdale, FL 33309.

Date Revoked: December 9, 2004.

Reason: Failed to maintain a valid bond.

License Number: 017822F.

Name: Prince International Trading L.L.C.

Address: 9720 NW., 114 Way, #100, Miami, FL 33178.

Date Revoked: December 9, 2004.

Reason: Failed to maintain a valid bond.

License Number: 004443F.

Name: Scott Container Service, Inc.

Address: 700 Leigh Street, Detroit, MI 48209.

Date Revoked: December 9, 2004.

Reason: Failed to maintain a valid bond.

License Number: 012279NF.

Name: Frontrunner Worldwide, Inc.

Address: 5001 U.S. Highway 30 West, Fort Wayne, IN 46801-0988.

Date Revoked: October 8, 2004.

Reason: Surrendered license voluntarily.

Sandra L. Kusumoto,
Director, Bureau of Certification and Licensing.

[FR Doc. 04-28469 Filed 12-28-04; 8:45 am]

BILLING CODE 6730-01-P